DEPARTMENT OF COMMERCE

National Oceanic and Atmospheric Administration

[RTID 0648-XD670]

North Pacific Fishery Management Council; Public Meeting

AGENCY: National Marine Fisheries Service (NMFS), National Oceanic and Atmospheric Administration (NOAA), Commerce.

ACTION: Notice of hybrid conference meetings of the North Pacific Fishery Management Council and its advisory committees.

SUMMARY: The North Pacific Fishery Management Council (Council) and its advisory committees will meet in February in Seattle, WA.

DATES: The meetings will be held February 5, 2024 through February 12, 2024. The Council's Scientific and Statistical Committee (SSC) will begin at 8 a.m. in the Courtyard Ballroom on Monday, February 5, 2024, and continue through Wednesday, February 7, 2024. The Council's Advisory Panel (AP) will begin at 10:30 a.m. in the North/West room on Tuesday, February 6, 2024, and continue through Friday, February 9, 2024. The Council will begin at 8 a.m. in the Courtyard Ballroom on Thursday, February 8, 2024, and continue through Monday, February 12, 2024. All times listed are Pacific Time.

ADDRESSES: The meetings will be a hybrid conference.

Meeting address: The in-person component of the meeting will be held at the Renaissance Hotel, 515 Madison St., Seattle, WA 98104, or join the meeting online through the links at https://www.npfmc.org/upcoming-council-meetings.

Council address: North Pacific Fishery Management Council, 1007 W 3rd Ave., Suite 400, Anchorage, AK 99501-2252; telephone: (907) 271-2809. Instructions for attending the meeting via web conference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, February 5, 2024 Through Wednesday, February 7, 2024

The SSC agenda will include the following issues:

(1) NSRKC (Norton Sound Red King Crab) ABC (acceptable biological catch)/OFL (overfishing limit)—Set Specifications, Crab Plan Team Report

(2) BBRKC (Bristol Bay Red King Crab) Closure Areas—Initial Review

(3) Cook Inlet Salmon—Status Determination Criteria, harvest specifications

(4) AFA (American Fisheries Act) Program Review—review workplan

(5) Case Studies for the 8th National Regional Fishery Management Councils' Scientific Coordination Subcommittee (SCS8) workshop—discuss candidates

(6) Small Sablefish release—identify sablefish DMR (discard mortality rate) for analysis

(7) Research Priorities—Plan Teams reports

The agenda is subject to change, and the latest version will be posted at https://meetings.npfmc.org/Meeting/Details/3030 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, February 6, 2024 Through Friday, February 9, 2024

The Advisory Panel agenda will include the following issues:

(1) NSRKC ABC/OFL—Set Specifications, Crab Plan Team Report

(2) BBRKC Closure Areas—Initial Review

(3) Pelagic Trawl Gear Definition Changes—review NMFS report

(4) Cook Inlet Salmon—Status Determination Criteria, harvest specifications

(5) GOA (Gulf of Alaska) Tanner Crab protections—review discussion paper

(6) Programmatic Evaluation of management policies—Council direction and workshop planning

(7) AFA Program Review—review workplan

(8) Staff Tasking

Thursday, February 8, 2024 Through Monday, February 12, 2024

The Council agenda will include the following issues. The Council may take appropriate action on any of the issues identified.

(1) B Reports (Executive Director including research presentation on effects of fishing on benthic habitat, NMFS Management including annual cost recovery updates and E-Logbooks Exempted Fishing Permit, NOAA GC, AFSC, ADF&G, USCG, USFWS, IPHC report, Advisory Panel, SSC report)

(2) NSRKC ABC/OFL—Set Specifications, Crab Plan Team Report

(3) BBRKC Closure Areas—Initial Review

(4) Cook Inlet Salmon—Status Determination Criteria, harvest specifications

(5) Pelagic Trawl Gear Definition Changes—review NMFS report

(6) GOA Tanner Crab protections—review discussion paper

(7) Programmatic Evaluation of management policies—Council direction and workshop planning

(8) AFA Program Review—review workplan

(9) Staff Tasking

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from January 12, 2024, to February 2, 2024, and closes at 12 p.m. Alaska Time on Friday, February 2, 2024.

Authority: 16 U.S.C. 1801 et seq.

Dated: January 16, 2024.
Rey Israel Marquez,
Acting Deputy Director, Office of Sustainable Fisheries, National Marine Fisheries Service.

[FR Doc. 2024-01067 Filed 1-19-24; 8:45 am]

BILLING CODE 3510-22-P